UNIFIED CARRIER REGISTRATION PLAN

Sunshine Act Meeting Notice; Unified Carrier Registration Plan Board Subcommittee Meeting

TIME AND DATE: March 19, 2020, from Noon to 3:00 p.m., Eastern time.

PLACE: This meeting will be accessible via conference call. Any interested person may call 1-866-210-1669, passcode 5253902#, to listen and participate in this meeting.

STATUS: This meeting will be open to the public.

MATTERS TO BE CONSIDERED: The Unified Carrier Registration Plan Education and Training Subcommittee (the “Subcommittee”) will continue its work in developing and implementing the Unified Carrier Registration Plan and Agreement. The subject matter of this meeting will include:

Proposed Agenda

I. Call to Order—UCR Subcommittee Chair

The Subcommittee Chair will welcome attendees, call the meeting to order, call roll for the Subcommittee, confirm whether a quorum is present, and facilitate self-introductions.

II. Verification of Publication of Meeting Notice—UCR Executive Director

The UCR Executive Director will verify the publication of the meeting notice on the UCR website and in the Federal Register.

III. Review and Approval of Subcommittee Agenda and Setting of Ground Rules—Subcommittee Chair

For Discussion and Possible Subcommittee Action

The Subcommittee Agenda will be reviewed and the Subcommittee will consider adoption.

Ground Rules

➢ Subcommittee action only to be taken in designated areas on agenda

➢ Please MUTE your phone

➢ Please do not place the call on HOLD

IV. Approval of Minutes From February 20, 2020 Meeting—UCR Operations Manager

Draft minutes from the February 20, 2020 Education and Training Subcommittee meeting will be reviewed and the Subcommittee will consider action to approve.

V. Update on Development of Training Modules—UCR Technology Director

The UCR Technology Director will update the Subcommittee on development of the three education and training modules and answer questions.

VI. Planning for Education Sessions at NCSTS Summer Meeting—UCR Subcommittee Chair

The Subcommittee Chair will report on the latest plans for UCR to host several live education and training sessions at the summer meeting on June 8, 2020 in Portland, Oregon.

VII. Other Items—Subcommittee Chair

The Subcommittee Chair will call for any other items the Subcommittee members would like to discuss.

VIII. Adjourn—Subcommittee Chair

Chair will adjourn the meeting.

The agenda will be available no later than 5:00 p.m. Eastern time, March 9, 2020 at: https://plan.ucr.gov.

CONTACT PERSON FOR MORE INFORMATION: Elizabeth Leaman, Chair, Unified Carrier Registration Plan Board of Directors, (617) 305-3783, eleaman@board.ucr.gov.

Alex B. Leath,
Chief Legal Officer, Unified Carrier Registration Plan.

[FR Doc. 2020-05186 Filed 3-10-20; 4:15 pm]

BILLING CODE 4910-YL-P